ENVIRONMENTAL PROTECTION AGENCY

40 CFR Part 52

[NC-2018; FRL-9974-83-Region 4]

Air Plan Approval; North Carolina; Update to Materials Incorporated by Reference

AGENCY: Environmental Protection Agency (EPA).

ACTION: Final rule; notification of administrative change.

SUMMARY: The Environmental Protection Agency (EPA) is updating the materials that are incorporated by reference (IBR) into the North Carolina state implementation plan (SIP). EPA is also revising the format for materials submitted by the local agency “Western North Carolina” that have been incorporated by reference into the SIP. The regulations affected by this update have been previously submitted by North Carolina and the local agencies, and have been previously approved by EPA. This update affects the materials that are available for public inspection at the National Archives and Records Administration (NARA) and the EPA Regional Office.

DATES: This action is effective October 26, 2018.

ADDRESSES: SIP materials which are incorporated by reference into 40 CFR part 52 are available for inspection at the following locations: Environmental Protection Agency, Region 4, 61 Forsyth Street SW, Atlanta, GA 30303; and the National Archives and Records Administration. For information on the availability of this material at NARA, call 202-741-6030, or go to: http://www.archives.gov/federal-register/cfr/ibr-locations.html. To view the materials at the Region 4 Office, EPA requests that you email the contact listed in the FOR FURTHER INFORMATION CONTACT section.

FOR FURTHER INFORMATION CONTACT: Sean Lakeman, Air Regulatory Management Section, Air Planning and Implementation Branch, Air, Pesticides and Toxics Management Division, U.S. Environmental Protection Agency, Region 4, 61 Forsyth Street SW, Atlanta, Georgia 30303-8960. Mr. Lakeman can be reached via telephone at (404) 562-9043 or via electronic mail at lakeman.sean@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to EPA. Once these control measures and strategies are approved by EPA, and after notice and comment, they are incorporated into the federally-approved SIP and are identified in part 52 “Approval and Promulgation of Implementation Plans,” Title 40 of the Code of Federal Regulations (40 CFR part 52). The full text of the state regulation approved by EPA is not reproduced in its entirety in 40 CFR part 52, but is “incorporated by reference.” This means that EPA has approved a given state regulation or specified changes to the given regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on proposed revisions containing new and/or revised state regulations. A submission from a state can revise one or more rules in their entirety or portions of rules, even change a single word. The state indicates the changes in the submission (such as, by using redline/strikethrough) and EPA then takes action on the requested changes. EPA establishes a docket for its actions using a unique Docket Identification Number which is listed in each action. These dockets and the complete submission are available for viewing on www.regulations.gov.

On May 22, 1997 (62 FR 27968), EPA revised the procedures for incorporating by reference, into the Code of Federal Regulations, materials approved by EPA into each state SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally-approved regulations and source specific permits submitted by each state agency. These SIP Compilations are updated primarily on an annual basis. Under the revised procedures, EPA must periodically publish an informational document in the rules section of the Federal Register notifying the public that updates have been made to a SIP Compilation for a particular state. EPA applied the 1997 revised procedures to: North Carolina on May 20, 1999 (64 FR 27465); Forsyth County on August 9, 2002 (67 FR 51763); and Mecklenburg County on October 22, 2002 (67 FR 64999).

II. EPA Action

This action represents EPA's publication of the North Carolina, Forsyth County, Mecklenburg County and Western North Carolina SIP Compilation update, appearing in 40 CFR part 52: specifically, the materials in paragraph (c) at 40 CFR 52.1770. This notice changes the format of paragraph (c) by: (1) Converting Tables 1, 2 and 3 to Volumes (1), (2) and (3); (2) adding Volume 4 “Western North Carolina”; (3) correcting typographical errors and; (4) provides notice of the following corrections to Volumes (1), (2) and (3) (previously Tables 1, 2 and 3) of paragraph (c) in section 52.1770, as described below:

Changes Applicable to Volume (1), (2) and (3) (Previously Tables 1, 2 and 3)

A. Under the “State Citation” column, “Sect” is changed to “Section” before all rules in table.

B. Under the “State effective date” and “EPA approval date” columns: The 2-digit year is changed to reflect a 4-digit year (for consistency), any leading zeroes have been removed for the month, and numerous Federal Register citations are corrected to reflect the first page of the preamble as opposed to the regulatory text page.

C. The last column is changed to read “Explanation” in all Volumes for consistency.

Changes Applicable to Volume 1—EPA Approved North Carolina Regulations (Previously Table 1)

Subchapter 2D—Air Pollution Control Requirements

A. Section .0101 and Section .0103: The State effective date was revised to read “12/1/2005”.

B. Section .0520 and Section .0929: The entries were removed from the table because EPA previously approved removal of these provisions from the SIP. See 62 FR 41277 (August 1, 1997).

C. Section .0530: The EPA approval date was added to read “9/14/2016, 81 FR 63107.”

D. Section .0903: The Title/subject was revised to read “Recordkeeping: Reporting: Monitoring”.

E. Section .0907, Section .0910, and Section .0911: These entries were removed from the table because EPA previously approved removal of these provisions from the SIP. 64 FR 55831 (October 15, 1999).

F. Section .0909: The Title/subject was revised to read “Compliance Schedules for Sources in Ozone Nonattainment and Maintenance Areas.”

G. Section .0913, Section .0914, Section .0915, Section .0916, Section .0917, Section .0920, Section .0921, Section .0934, Section .0936, Section .0939, Section .0940, Section .0941, Section .0942, Section .1416, Section .1417, Section .1419, Section .1420, Section .1421, and Section .1422: These entries were removed from the table because EPA previously approved removal of these provisions from the SIP. 78 FR 27065 (May 9, 2013).

H. Section .0938: The entry was removed from the table because EPA previously approved removal of this provision from the SIP. 64 FR 61213 (November 10, 1999).

I. Section .0953 and Section .0954: The entries were removed from the table because EPA previously approved removal of these provisions from the SIP. 78 FR 58184 (September 23, 2013).

J. Section .0959: The entry was removed because this provision was not incorporated into the SIP. See 68 FR 66350 (November 26, 2003).

K. Section .0963: The Title/subject was revised to read “Fiberglass Boat Manufacturing Materials”.

L. Section .0966: The Title/subject was revised to read “Paper, Film and Foil Coatings.”

M. Section .1004: The entry was removed from the table because EPA previously approved removal of this provision from the SIP. See 80 FR 6455 (February 5, 2015).

N. Section .1409: The Title/subject was revised to read “Stationary Internal Combustion Engines.”

O. Section .1418: The Title/subject was revised to read “New Electric Generating Units, Large Boilers, and Large I/C Engines.”

P. Section .1903: The Title/subject was revised to read “Open Burning Without An Air Quality Permit.”

Q. Section .1901, Section .1902, and Section .1903: The State effective date was revised to read “7/1/2007.”

R. Section .2001: The State effective date was revised to read “12/1/2005”.

S. Section .2602: The Title/subject was revised to read “General Provisions on Test Methods and Procedures.”

T. Section .2614: The Title/subject was revised to read “Determination of VOC Emission Control System Efficiency.”

Subchapter 2Q—Air Quality Permits

A. Section .0103, Section .0105, Section .0304, and Section .0305: The State effective date was revised to read “12/1/2005.”

B. Section .0806: The State effective date was revised to read “6/1/2004.”

Changes Applicable to Volume 2—EPA Approved Forsyth County Regulations (Previously Table 2)

Subchapter 3D—Air Pollution Control Requirements

A. Section .0103: The Title/subject was revised to read “Copies of Referenced Federal Regulations”.

B. Section .0504: The word “Repealed” was removed from the Explanation column (previously Comment column) because the section was approved into the SIP on September 16, 2003 (68 FR 54163).

C. Section .0507: The FR citation was corrected to read “2/17/2000, 65 FR 8053.”

D. Section .0512: The State effective date was revised to read “7/28/1997” and the EPA approval date was revised to read “12/31/1998, 63 FR 72190”.

E. Section .0516: The State effective date was revised to read “11/29/1995” and the EPA approval date was revised to read “5/23/1996, 61 FR 25789”.

F. Section .0517: The State effective date was revised to read “6/14/1990” and the EPA approval date was revised to read “5/2/1991, 56 FR 20140”.

G. Section .0542: A duplicate entry in Section .0500 Emission Control Standards for Section .0542 was removed, and the word “Repealed” was removed from the Explanation column (previously Comment column) because EPA previously approved the section into the SIP.

H. Section .0914: The Title/subject was revised to read “Determination of VOC Emission Control System Efficiency”.

I. Section .0944: The Title/subject was revised to read “Manufacture of Polyethylene, Polypropylene and Polystyrene”.

J. Section .0947: The Title/subject was revised to read “Manufacture of Synthesized Pharmaceutical Products”.

K. Section .0957: The State effective date was revised to read “11/29/1995” and the EPA approval date was revised to read “5/23/1996, 61 FR 25789”.

Subchapter 3Q—Air Quality Permits

A. Section .0311: The Title/subject was revised to read “Permitting of Facilities at Multiple Temporary Sites”.

B. Section .0803: The State effective date was revised to read “7/30/1999” and the EPA approval date was revised to read “10/22/2002, 75 FR 64994”.

Changes Applicable to Volume 3—EPA Approved Mecklenburg County Regulations (Previously Table 3)

Article 1.000 Permitting Provisions for Air Pollution Sources, Rules and Operating Regulations for Acid Rain Sources, Title V and Toxic Air Pollutants

A. Section 1.5231: The Title/subject was revised to read “Air Quality Fees”.

Article 2.0000 Air Pollution Control Regulations and Procedures

A. Section 2.0610: The Title/subject was revised to read “Federal Monitoring Requirements”.

B. Section 2.0925: The State effective date was revised to read “3/1/1991” and the EPA approval date was revised to read “6/23/1994, 59 FR 32362”.

C. Section 2.0926: The State effective date was revised to read “3/1/1991” and the EPA approval date was revised to read “6/23/1994, 59 FR 32362”.

D. Section 2.0928: The State effective date was revised to read “3/1/1991” and the EPA approval date was revised to read “6/23/1994, 59 FR 32362”.

E. Section 2.0929: The State effective date was revised to read “3/1/1991” and the EPA approval date was revised to read “6/23/1994, 59 FR 32362”.

F. Section 2.0930: The State effective date was revised to read “3/1/1991” and the EPA approval date was revised to read “6/23/1994, 59 FR 32362”.

G. Section 2.0934: The State effective date was revised to read “3/1/1991” and the EPA approval date was revised to read “6/23/1994, 59 FR 32362”.

H. Section 2.0943: The State effective date was revised to read “3/1/1991” and the EPA approval date was revised to read “6/23/1994, 59 FR 32362”.

I. Section 2.0944: The State effective date was revised to read “3/1/1991” and the EPA approval date was revised to read “6/23/1994, 59 FR 32362”.

J. Section 2.0951: An entry was added for Section 2.0951 “Miscellaneous Volatile Organic Compound Emissions”, which was approved on 10/22/2002 (67 FR 64999).

K. Section 2.0958: An entry was added for Section 2.0958 “Work Practices for Sources of Volatile Organic Compounds”, which was approved on 10/22/2002 (67 FR 64999).

III. Good Cause Exemption

EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs and corrects typographical errors appearing in the CFR. Under section 553(b)(3)(B) of the APA, an agency may find good cause where procedures are “impracticable, unnecessary, or contrary to the public interest.” Public comment for this administrative action is “unnecessary” and “contrary to the public interest” since the codification (and typographical corrections) only reflect existing law. Immediate notice of this action in the Federal Register benefits the public by providing the public notice of the updated North Carolina SIP Compilation and notice of typographical corrections to the North Carolina “Identification of Plan” portion of the Federal Register. Further, pursuant to section 553(d)(3), making this action immediately effective benefits the public by immediately updating both the SIP compilation and the CFR “Identification of plan” section (which includes table entry corrections).

IV. Incorporation by Reference

In this rule, EPA is finalizing regulatory text that includes incorporation by reference. In accordance with requirements of 1 CFR 51.5, EPA is finalizing the incorporation by reference of previously EPA-approved regulations promulgated by North Carolina, Forsyth County, Mecklenburg County, and Western North Carolina, and federally effective prior to October 1, 2017. EPA has made, and will continue to make, these materials generally available through www.regulations.gov and at the EPA Region 4 Office (please contact the person identified in the FOR FURTHER INFORMATION CONTACT section of this preamble for more information).

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this notification of administrative change does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the North Carolina SIP compilations previously afforded interested parties the opportunity to file a petition for judicial review in the United States Court of Appeals for the appropriate circuit within 60 days of such rulemaking action. Thus, EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: August 28, 2018.
Onis “Trey” Glenn, III,
Regional Administrator, Region 4.

40 CFR part 52 is amended as follows:

PART 52—APPROVAL AND PROMULGATION OF IMPLEMENTATION PLANS

1. The authority citation for part 52 continues to read as follows:

Authority: 42 U.S.C. 7401 et seq.

Subpart II—North Carolina

2. In § 52.1770 paragraphs (b) and (c) are revised to read as follows:

§ 52.1770 Identification of plan.

* * * * *

(b) Incorporation by reference. (1) Material listed in paragraph (c) of this section with an EPA approval date prior to October 1, 2017, for North Carolina (Volume 1), Forsyth County (Volume 2), Mecklenburg County (Volume 3) and Western North Carolina (Volume 4) was approved for incorporation by reference by the Director of the Federal Register in accordance with 5 U.S.C. 552(a) and 1 CFR part 51. Material is incorporated as it exists on the date of the approval, and notice of any change in the material will be published in the Federal Register. Entries in paragraph (c)(1), (2), (3) and (4) of this section with EPA approval dates after October 1, 2017, for North Carolina (Volume 1), Forsyth County (Volume 2), Mecklenburg County (Volume 3) and Western North Carolina (Volume 4), will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1).

(3) Copies of the materials incorporated by reference may be inspected at the Region 4 EPA Office at 61 Forsyth Street SW, Atlanta, GA 30303. To obtain the material, please call (404) 562-9022. You may inspect the material with an EPA approval date prior to October 1, 2017, for North Carolina at the National Archives and Records Administration. For information on the availability of this material at NARA go to: http://www.archives.gov/federal-register/cfr/ibr-locations.html.

(c) EPA approved regulations.

(1) EPA Approved North Carolina Regulations
State citation | Title/subject | State effective date | EPA approval date | Explanation
Subchapter 2D Air Pollution Control Requirements
Section .0100 Definitions and References
Section .0101 | Definitions | 12/1/2005 | 7/18/2017, 82 FR 32767 |
Section .0103 | Copies of Referenced Federal Regulations | 12/1/2005 | 7/18/2017, 82 FR 32767 |
Section .0104 | Incorporation by Reference | 1/15/1998 | 11/10/1999, 64 FR 61213 |
Section .0105 | Mailing List | 7/1/2002 | 9/17/2003, 68 FR 54362 |
Section .0200 Air Pollution Sources
Section .0201 | Classification of Air Pollution Sources | 4/12/1984 | 10/11/1985, 50 FR 41501 |
Section .0202 | Registration of Air Pollution Sources | 1/15/1998 | 11/10/1999, 64 FR 61213 |
Section .0300 Air Pollution Emergencies
Section .0301 | Purpose | 2/1/1976 | 6/3/1986, 51 FR 19834 |
Section .0302 | Episode Criteria | 1/15/1998 | 11/10/1999, 64 FR 61213 |
Section .0303 | Emission Reduction Plans | 4/12/1984 | 10/11/1985, 50 FR 41501 |
Section .0304 | Preplanned Abatement Program | 4/14/1988 | 12/12/1988, 53 FR 49881 |
Section .0305 | Emission Reduction Plan—Alert Level | 4/12/1984 | 10/11/1985, 50 FR 41501 |
Section .0306 | Emission Reduction Plan—Warning Level | 4/12/1984 | 10/11/1985, 50 FR 41501 |
Section .0307 | Emission Reduction Plan—Emergency Level | 4/12/1984 | 10/11/1985, 50 FR 41501 |
Section .0400 Ambient Air Quality Standards
Section .0401 | Purpose | 12/1/1992 | 8/15/1994, 59 FR 41708 |
Section .0402 | Sulfur Dioxide | 9/1/2011 | 7/20/2015, 80 FR 42733 |
Section .0403 | Total Suspended Particulates | 7/1/1988 | 1/16/1990, 55 FR 1419 |
Section .0404 | Carbon Monoxide | 10/1/1989 | 3/12/1990, 55 FR 9125 |
Section .0405 | Ozone | 1/1/2010 | 5/16/2013, 78 FR 28747 |
Section .0407 | Nitrogen Dioxide | 9/1/2011 | 7/20/2015, 80 FR 42733 |
Section .0408 | Lead | 1/1/2010 | 5/16/2013, 78 FR 28747 |
Section .0409 | Particulate Matter | 1/1/2010 | 6/30/2014, 79 FR 36655 |
Section .0410 | PM2.5 Particulate Matter | 9/1/2015 | 7/14/2016, 81 FR 45421 |
Section .0500 Emission Control Standards
Section .0501 | Compliance with Emission Control Standards | 4/1/2001 | 8/8/2002, 67 FR 51461 |
Section .0502 | Purpose | 3/1/1981 | 7/26/1982, 47 FR 32118 |
Section .0503 | Particulates from Fuel Burning Indirect Heat Exchangers | 5/1/1999 | 10/22/2002, 67 FR 64989 |
Section .0504 | Particulates from Wood Burning Indirect Heat Exchangers | 7/1/2002 | 12/27/2002, 67 FR 78980 |
Section .0505 | Control of Particulates from Incinerators | 7/1/1987 | 2/29/1988, 53 FR 5974 |
Section .0506 | Particulates from Hot Mix Asphalt Plants | 3/20/1998 | 11/10/1999, 64 FR 61213 |
Section .0507 | Particulates from Chemical Fertilizer Manufacturing Plants | 4/1/2003 | 9/17/2003, 68 FR 54362 |
Section .0508 | Particulates from Pulp and Paper Mills | 3/20/1998 | 11/10/1999, 64 FR 61213 |
Section .0509 | Particulates from Mica or Feldspar Processing Plants | 4/1/2003 | 9/17/2003, 68 FR 54362 |
Section .0510 | Particulates from Sand, Gravel, or Crushed Stone Operations | 3/20/1998 | 11/10/1999, 64 FR 61213 |
Section .0511 | Particulates from Lightweight Aggregate | 3/20/1998 | 11/10/1999, 64 FR 61213 |
Section .0512 | Particulates from Wood Products Finishing Plants | 11/1/1984 | 12/19/1986, 51 FR 45468 |
Section .0513 | Particulates from Portland Cement Plants | 3/20/1998 | 11/10/1999, 64 FR 61213 |
Section .0514 | Particulates from Ferrous Jobbing Foundries | 3/20/1998 | 11/10/1999, 64 FR 61213 |
Section .0515 | Particulates from Miscellaneous Industrial Processes | 4/1/2003 | 9/17/2003, 68 FR 54362 |
Section .0516 | Sulfur Dioxide Emissions from Combustion Sources | 4/1/2003 | 9/17/2003, 68 FR 54362 |
Section .0517 | SO2 Emissions from Plants Producing Sulfuric Acid | 11/1/1984 | 12/19/1986, 51 FR 45468 |
Section .0519 | Control of Nitrogen Dioxide and Nitrogen Oxides | 1/1/2005 | 8/22/2008, 73 FR 49613 |
Section .0521 | Control of Visible Emissions | 1/1/2005 | 10/25/2005, 70 FR 61556 | Approving changes to Paragraphs (c) and (d) that reference new Paragraph (g). Also, approving Paragraph (g) excluding the following language: “excluding startups, shutdowns, maintenance periods when fuel is not being combusted, and malfunctions approved as such according to procedures approved under Rule .0535 of this Section.”
Section .0522 | Control and Prohibition of Odorous Emissions | 2/1/1976 | 6/3/1986, 51 FR 19834 |
Section .0523 | Control of Conical Incinerators | 1/1/1985 | 9/9/1987, 52 FR 33933 |
Section .0527 | Emissions from Spodumene Ore Roasting | 11/1/1984 | 12/19/1986, 51 FR 45468 |
Section .0530 | Prevention of Significant Deterioration | 9/1/2017 | [Use current CFR date and citation] |
Section .0531 | Sources in Nonattainment Areas | 9/1/2013 | 9/14/2016, 81 FR 63107 |
Section .0532 | Sources Contributing to an Ambient Violation | 7/1/1994 | 2/1/1996, 61 FR 3584 |
Section .0533 | Stack Height | 7/1/1994 | 2/1/1996, 61 FR 3584 |
Section .0535 | Excess Emissions Reporting and Malfunctions | 7/1/1996 | 8/1/1997, 62 FR 41277 |
Section .0536 | Particulate Emissions from Electric Utility Boilers | 8/1/1991 | 2/14/1996, 61 FR 5689 |
Section .0540 | Particulates from Fugitive Non-process Dust Emission Sources | 3/20/1998 | 11/10/1999, 64 FR 61213 |
Section .0542 | Control of Particulate Emissions from Cotton Ginning Operations | 7/1/2002 | 12/27/2002, 67 FR 78980 |
Section .0543 | Best Available Retrofit Technology | 9/6/2006 | 6/27/2012, 77 FR 38185 |
Section .0544 | Prevention of Significant Deterioration Requirements for Greenhouse Gases | 12/16/2010 | 10/18/2011, 76 FR 64240 |
Section .0600 Air Contaminants; Monitoring, Reporting
Section .0601 | Monitoring: Recordkeeping: Reporting | 4/1/1999 | 8/8/2002, 67 FR 51461 |
Section .0602 | Definitions | 4/1/1999 | 8/8/2002, 67 FR 51461 |
Section .0604 | Exceptions to Monitoring and Reporting Requirements | 4/1/1999 | 8/8/2002, 67 FR 51461 |
Section .0605 | General Recordkeeping and Reporting Requirements | 11/1/2006 | 10/31/2007, 72 FR 61531 |
Section .0606 | Sources Covered by Appendix P of 40 CFR part 51 | 1/1/2005 | 8/22/2008, 73 FR 49613 |
Section .0607 | Large Wood and Wood-Fossil Fuel Combination Units | 4/1/1999 | 8/8/2002, 67 FR 51461 |
Section .0608 | Other Large Coal or Residual Oil Burners | 1/1/2005 | 8/22/2008, 73 FR 49613 |
Section .0609 | Monitoring Condition in Permit | 4/12/1984 | 10/4/1985, 50 FR 41501 |
Section .0610 | Federal Monitoring Requirements | 4/1/1999 | 8/8/2002, 67 FR 51461 |
Section .0611 | Monitoring Emissions from Other Sources | 4/1/1999 | 8/8/2002, 67 FR 51461 |
Section .0612 | Alternative Monitoring and Reporting Procedures | 4/1/1999 | 8/8/2002, 67 FR 51461 |
Section .0613 | Quality Assurance Program | 4/1/1999 | 8/8/2002, 67 FR 51461 |
Section .0614 | Compliance Assurance Monitoring | 4/1/1999 | 8/8/2002, 67 FR 51461 |
Section .0615 | Delegation | 4/1/1999 | 8/8/2002, 67 FR 51461 |
Section .0900 Volatile Organic Compounds
Section .0901 | Definitions | 1/1/2009 | 5/9/2013, 78 FR 27065 |
Section .0902 | Applicability | 5/1/2013 | 9/23/2013, 78 FR 58184 | This approval does not include the start-up shutdown language as described in Section II.A.a. of EPA's 3/13/2013 proposed rule (78 FR 15895).
Section .0903 | Recordkeeping: Reporting: Monitoring | 5/1/2013 | 7/25/2013, 78 FR 44892 |
Section .0905 | Petition for Alternative Controls | 11/8/1984 | 12/19/1986, 51 FR 45468 |
Section .0906 | Circumvention | 11/8/1984 | 12/19/1986, 51 FR 45468 |
Section .0908 | Equipment Modification Compliance Schedules | 11/8/1984 | 12/19/1986, 51 FR 45468 |
Section .0909 | Compliance Schedules for Sources in Ozone Nonattainment and Maintenance Areas | 5/1/2013 | 9/23/2013, 78 FR 58186 |
Section .0912 | General Provisions on Test Methods and Procedures | 3/13/2008 | 5/9/2013, 78 FR 27065 |
Section .0918 | Can Coating | 7/1/1996 | 8/1/1997, 62 FR 41277 |
Section .0919 | Coil Coating | 7/1/1996 | 8/1/1997, 62 FR 41277 |
Section .0922 | Metal Furniture Coating | 9/1/2010 | 5/9/2013, 78 FR 27065 |
Section .0923 | Surface Coating of Large Appliance | 9/1/2010 | 5/9/2013, 78 FR 27065 |
Section .0924 | Magnet Wire Coating | 7/1/1996 | 8/1/1997, 62 FR 41277 |
Section .0925 | Petroleum Liquid Storage | 12/1/1989 | 6/23/1994, 59 FR 32362 |
Section .0926 | Bulk Gasoline Plants | 7/1/1996 | 8/1/1997, 62 FR 41277 |
Section .0927 | Bulk Gasoline Terminals | 6/1/2008 | 5/9/2013, 78 FR 27065 |
Section .0928 | Gasoline Service Stations Stage I | 7/1/1996 | 8/1/1997, 62 FR 41277 |
Section .0930 | Solvent Metal Cleaning | 6/1/2008 | 5/9/2013, 78 FR 27065 |
Section .0931 | Cutback Asphalt | 12/1/1989 | 6/23/1994, 59 FR 32362 |
Section .0932 | Gasoline Truck Tanks and Vapor Collection Systems | 11/7/2007 | 5/9/2013, 78 FR 27065 |
Section .0933 | Petroleum Liquid Storage in External Floating Roof Tanks | 8/1/2004 | 5/9/2013, 78 FR 27065 |
Section .0935 | Factory Surface Coating of Flat Wood Paneling | 9/1/2010 | 5/9/2013, 78 FR 27065 |
Section .0937 | Manufacture of Pneumatic Rubber Tires | 7/1/1996 | 8/1/1997, 62 FR 41277 |
Section .0943 | Synthetic Organic Chemical and Polymer Manufacturing | 11/7/2007 | 5/9/2013, 78 FR 27065 |
Section .0944 | Manufacture of Polyethylene, Polypropylene, and Polystyrene | 3/14/1985 | 11/19/1986, 51 FR 41786 |
Section .0945 | Petroleum Dry Cleaning | 11/7/2007 | 5/9/2013, 78 FR 27065 |
Section .0947 | Manufacture of Synthesized Pharmaceutical Products | 7/1/1994 | 5/5/1995, 60 FR 22284 |
Section .0948 | VOC Emissions from Transfer Operations | 7/1/2000 | 8/27/2001, 66 FR 34117 |
Section .0949 | Storage of Miscellaneous Volatile Organic Compounds | 7/1/2000 | 8/27/2001, 66 FR 34117 |
Section .0951 | RACT for Sources of Volatile Organic Compounds | 5/1/2013 | 7/25/2013, 78 FR 44890 |
Section .0952 | Petitions for Alternative Controls for RACT | 9/18/2009 | 9/23/2013, 78 FR 58184 |
Section .0955 | Thread Bonding Manufacturing | 4/1/1995 | 2/1/1996, 61 FR 3588 |
Section .0956 | Glass Christmas Ornament Manufacturing | 4/1/1995 | 2/1/1996, 61 FR 3588 |
Section .0957 | Commercial Bakeries | 4/1/1995 | 2/1/1996, 62 FR 3588 |
Section .0958 | Work Practices for Sources of Volatile Organic Compounds | 7/1/2000 | 8/27/2001, 66 FR 34117 |
Section .0961 | Offset Lithographic Printing and Letterpress Printing | 5/1/2013 | 7/25/2013, 78 FR 44890 |
Section .0962 | Industrial Cleaning Solvents | 5/1/2013 | 7/25/2013, 78 FR 44890 |
Section .0963 | Fiberglass Boat Manufacturing Materials | 9/1/2010 | 5/9/2013, 78 FR 27065 |
Section .0964 | Miscellaneous Industrial Adhesives | 9/1/2010 | 5/9/2013, 78 FR 27065 |
Section .0965 | Flexible Package Printing | 9/1/2010 | 5/9/2013, 78 FR 27065 |
Section .0966 | Paper, Film and Foil Coatings | 9/1/2010 | 5/9/2013, 78 FR 27065 |
Section .0967 | Miscellaneous Metal and Plastic Parts Coatings | 9/1/2010 | 5/9/2013, 78 FR 27065 |
Section .0968 | Automobile and Light Duty Truck Assembly Coatings | 9/1/2010 | 5/9/2013, 78 FR 27065 |
Section .1000 Motor Vehicle Emissions Control Standards
Section .1001 | Purpose | 7/1/2002 | 10/30/2002, 67 FR 66056 |
Section .1002 | Applicability | 1/1/2014 | 4/10/2017, 82 FR 17145 | Paragraph (a)(3) of Section .1002 is hereby rescinded as this paragraph is inconsistent with the limits on the waiver of sovereign immunity established in section 118(a) of the CAA.
Section .1003 | Definitions | 2/1/2014 | 2/5/2015, 80 FR 6455 |
Section .1005 | On-Board Diagnostic Standards | 1/1/2014 | 2/5/2015, 80 FR 6455 |
Section .1300 Oxygenated Gasoline Standard
Section .1301 | Purpose | 9/1/1996 | 6/19/2007, 72 FR 33692 |
Section .1302 | Applicability | 9/1/1996 | 6/19/2007, 72 FR 33692 |
Section .1303 | Definitions | 9/1/1992 | 6/30/1994, 59 FR 33683 |
Section .1304 | Oxygen Content Standard | 9/1/1996 | 06/19/2007, 72 FR 33692 |
Section .1305 | Measurement and Enforcement | 9/1/1992 | 6/30/1994, 59 FR 33683 |
Section .1400 Nitrogen Oxides
Section .1401 | Definitions | 7/15/2002 | 12/27/2002, 67 FR 78987 |
Section .1402 | Applicability | 1/1/2010 | 5/9/2013, 78 FR 27065 |
Section .1403 | Compliance Schedules | 7/1/2007 | 5/9/2013, 78 FR 27065 |
Section .1404 | Recordkeeping: Reporting: Monitoring | 5/1/2004 | 5/9/2013, 78 FR 27065 |
Section .1407 | Boilers and Indirect Process Heaters | 7/15/2002 | 5/9/2013, 78 FR 27065 |
Section .1408 | Stationary Combustion Turbines | 7/15/2002 | 5/9/2013, 78 FR 27065 |
Section .1409 | Stationary Internal Combustion Engines | 3/13/2008 | 5/9/2013, 78 FR 27065 |
Section .1410 | Emissions Averaging | 3/13/2008 | 5/9/2013, 78 FR 27065 |
Section .1411 | Seasonal Fuel Switching | 3/13/2008 | 5/9/2013, 78 FR 27065 |
Section .1412 | Petition for Alternative Limitations | 3/13/2008 | 5/9/2013, 78 FR 27065 |
Section .1415 | Test Methods and Procedures | 3/13/2008 | 5/9/2013, 78 FR 27065 |
Section .1418 | New Electric Generating Units, Large Boilers, and Large I/C Engines | 3/13/2008 | 5/9/2013, 78 FR 27065 |
Section .1423 | Large Internal Combustion Engines | 7/15/2002 | 12/27/2002, 67 FR 78987 |
Section .1900 Open Burning
Section .1901 | Open Burning: Purpose: Scope | 7/1/2007 | 7/18/2017, 82 FR 32767 |
Section .1902 | Definitions | 7/1/2007 | 7/18/2017, 82 FR 32767 |
Section .1903 | Open Burning Without an Air Quality Permit | 7/1/2007 | 7/18/2017, 82 FR 32767 |
Section .1904 | Air Curtain Burners | 7/1/1996 | 8/1/1997, 62 FR 41277 |
Section .2000 Transportation Conformity
Section .2001 | Purpose, Scope and Applicability | 12/1/2005 | 7/18/2017, 82 FR 32767 |
Section .2002 | Definitions | 4/1/1999 | 12/27/2002, 67 FR 78983 |
Section .2003 | Transportation Conformity Determination | 4/1/1999 | 12/27/2002, 67 FR 78983 | Except for the incorporation by reference of 40 CFR 93.104(e) of the Transportation Conformity Rule.
Section .2004 | Determining Transportation Related Emissions | 4/1/1999 | 12/27/2002, 67 FR 78983 |
Section .2005 | Memorandum of Agreement | 4/1/1999 | 12/27/2002, 67 FR 78983 |
Section .2400 Clean Air Interstate Rules
Section .2401 | Purpose and Applicability | 5/1/2008 | 11/30/2009, 74 FR 62496 |
Section .2402 | Definitions | 5/1/2008 | 11/30/2009, 74 FR 62496 |
Section .2403 | Nitrogen Oxide Emissions | 5/1/2008 | 11/30/2009, 74 FR 62496 |
Section .2404 | Sulfur Dioxide | 5/1/2008 | 11/30/2009, 74 FR 62496 |
Section .2405 | Nitrogen Oxide Emissions During Ozone Season | 5/1/2008 | 11/30/2009, 74 FR 62496 |
Section .2406 | Permitting | 7/1/2006 | 11/30/2009, 74 FR 62496 |
Section .2407 | Monitoring, Reporting, and Recordkeeping | 5/1/2008 | 11/30/2009, 74 FR 62496 |
Section .2408 | Trading Program and Banking | 7/1/2006 | 11/30/2009, 74 FR 62496 |
Section .2409 | Designated Representative | 5/1/2008 | 11/30/2009, 74 FR 62496 |
Section .2410 | Computation of Time | 7/1/2006 | 11/30/2009, 74 FR 62496 |
Section .2411 | Opt-In Provisions | 7/1/2006 | 11/30/2009, 74 FR 62496 |
Section .2412 | New Unit Growth | 5/1/2008 | 11/30/2009, 74 FR 62496 |
Section .2413 | Periodic Review and Reallocations | 7/1/2006 | 11/30/2009, 74 FR 62496 |
Section .2600 Source Testing
Section .2601 | Purpose and Scope | 3/13/2008 | 5/9/2013, 78 FR 27065 |
Section .2602 | General Provisions on Test Methods and Procedures | 3/13/2008 | 5/9/2013, 78 FR 27065 |
Section .2603 | Testing Protocol | 3/13/2008 | 5/9/2013, 78 FR 27065 |
Section .2604 | Number of Test Points | 3/13/2008 | 5/9/2013, 78 FR 27065 |
Section .2605 | Velocity and Volume Flow Rate | 3/13/2008 | 5/9/2013, 78 FR 27065 |
Section .2606 | Molecular Weight | 3/13/2008 | 5/9/2013, 78 FR 27065 |
Section .2607 | Determination of Moisture Content | 3/13/2008 | 5/9/2013, 78 FR 27065 |
Section .2608 | Number of Runs and Compliance Determination | 3/13/2008 | 5/9/2013, 78 FR 27065 |
Section .2612 | Nitrogen Oxide Testing Methods | 3/13/2008 | 5/9/2013, 78 FR 27065 |
Section .2613 | Volatile Organic Compound Testing Methods | 3/13/2008 | 5/9/2013, 78 FR 27065 |
Section .2614 | Determination of VOC Emission Control System Efficiency | 3/13/2008 | 5/9/2013, 78 FR 27065 |
Section .2615 | Determination of Leak Tightness and Vapor Leaks | 3/13/2008 | 5/9/2013, 78 FR 27065 |
Section .2621 | Determination of Fuel Heat Content Using F-Factor | 3/13/2008 | 5/9/2013, 78 FR 27065 |
Subchapter 2Q Air Quality Permits
Section .0100 General Provisions
Section .0101 | Required Air Quality Permits | 3/20/1998 | 11/10/1999, 64 FR 61213 |
Section. 0102 | Activities Exempted from Permit Requirements | 1/1/2005 | 8/22/2008, 73 FR 49613 |
Section .0103 | Definitions | 12/1/2005 | 7/18/2017, 82 FR 32767 |
Section .0104 | Where to Obtain and File Permit Applications | 7/1/2002 | 12/27/2002, 67 FR 78980 |
Section .0105 | Copies of Referenced Documents | 12/1/2005 | 7/18/2017, 82 FR 32767 |
Section .0106 | Incorporation by Reference | 8/15/1994 | 2/1/1996, 61 FR 3584 |
Section .0107 | Confidential Information | 5/1/1999 | 10/22/2002, 67 FR 64989 |
Section .0108 | Delegation of Authority | 3/15/1998 | 11/10/1999, 64 FR 61213 |
Section .0109 | Compliance Schedule for Previously Exempted Activities | 4/1/2001 | 8/8/2002, 67 FR 51461 |
Section .0110 | Retention of Permit at Permitted Facility | 8/15/1994 | 2/1/1996, 61 FR 3584 |
Section .0111 | Applicability Determinations | 8/15/1994 | 2/1/1996, 61 FR 3584 |
Section .0200 Permit Fees
Section .0207 | Annual Emissions Reporting | 7/1/2007 | 4/24/2012, 77 FR 24382 |
Section .0300 Construction and Operating Permits
Section .0301 | Applicability | 7/1/1994 | 7/28/1995, 60 FR 38710 |
Section .0303 | Definitions | 7/1/1994 | 7/28/1995, 60 FR 38710 |
Section .0304 | Applications | 12/1/2005 | 7/18/2017, 82 FR 32767 |
Section .0305 | Application Submittal Content | 12/1/2005 | 7/18/2017, 82 FR 32767 |
Section .0306 | Permits Requiring Public Participation | 7/1/1999 | 10/22/2002, 67 FR 64989 |
Section .0307 | Public Participation Procedures | 1/15/1998 | 11/10/1999, 64 FR 61213 |
Section .0308 | Final Action on Permit Applications | 7/1/1994 | 7/28/1995, 60 FR 38710 |
Section .0309 | Termination, Modification and Revocation of Permits | 7/1/1999 | 10/22/2002, 67 FR 64989 |
Section .0310 | Permitting of Numerous Similar Facilities | 7/1/1994 | 7/28/1995, 60 FR 38710 |
Section .0311 | Permitting of Facilities at Multiple Temporary Sites | 7/1/1996 | 8/1/1997, 62 FR 41277 |
Section .0312 | Application Processing Schedule | 3/20/1998 | 11/10/1999, 64 FR 61213 |
Section .0313 | Expedited Application Processing Schedule | 4/17/1997 | 11/10/1999, 64 FR 61213 |
Section .0314 | General Permitting Requirements | 7/1/1999 | 10/22/2002, 67 FR 64989 |
Section .0315 | Synthetic Minor Facilities | 7/1/1999 | 10/22/2002, 67 FR 64989 |
Section .0316 | Administrative Permit Amendments | 4/1/2001 | 8/8/2002, 67 FR 51461 |
Section .0317 | Avoidance Conditions | 4/1/2001 | 8/8/2002, 67 FR 51461 |
Section .0800 Exclusionary Rules
Section .0801 | Purpose and Scope | 5/1/1999 | 10/22/2002, 67 FR 64989 |
Section .0802 | Gasoline Servicing Stations and Dispensing Facilities | 8/1/1995 | 9/20/1996, 61 FR 49413 |
Section .0803 | Coating, Solvent Cleaning, Graphic Arts Operations | 5/1/1999 | 10/22/2002, 67 FR 64989 |
Section .0804 | Dry Cleaning Facilities | 8/1/1995 | 9/20/1996, 61 FR 49414 |
Section .0805 | Grain Elevators | 4/1/2001 | 8/8/2002, 67 FR 51461 |
Section .0806 | Cotton Gins | 6/1/2004 | 7/18/2017, 82 FR 32767 |
Section .0807 | Emergency Generators | 4/1/2002 | 8/8/2002, 67 FR 51461 |
Section .0808 | Peak Shaving Generators | 7/1/1999 | 10/22/2002, 67 FR 64989 |
Section .0809 | Concrete Batch Plants | 4/1/2004 | 9/27/2017, 82 FR 45473 |
Section .0900 Permit Exemptions
Section .0901 | Purpose and Scope | 1/1/2005 | 9/27/2017, 82 FR 45473 |
Section .0902 | Portable Crushers | 1/1/2005 | 9/27/2017, 82 FR 45473 |

(2) EPA Approved Forsyth County Regulations
State citation | Title/subject | State effective date | EPA approval date | Explanation
Subchapter 3A Air Pollution Control Requirements
Section .0100 In General
Section .0101 | Department Established | 6/14/1990 | 5/2/1991, 56 FR 20140 |
Section .0102 | Enforcement of Chapter | 6/14/1990 | 5/2/1991, 56 FR 20140 |
Section .0103 | General Powers and Duties of Director | 6/14/1990 | 5/2/1991, 56 FR 20140 |
Section .0104 | Authority of Director to Establish Administrative Procedures | 6/14/1990 | 5/2/1991, 56 FR 20140 |
Section .0105 | Fees for Inspections, Permits, and Certificates Required by Chapter | 6/14/1990 | 5/2/1991, 56 FR 20140 |
Section .0106 | Penalties for Violation of Chapter | 1/17/1997 | 2/17/2000, 65 FR 8053 |
Section .0107 | Civil Relief for Violations of Chapter | 6/14/1990 | 5/2/1991, 56 FR 20140 |
Section .0108 | Chapter Does Not Prohibit Private Actions For Relief | 6/14/1990 | 5/2/1991, 56 FR 20140 |
Section .0109 | Judicial Review of Administrative Decisions Rendered Under Chapter | 6/14/1990 | 5/2/1991, 56 FR 20140 |
Section .0111 | Copies of Referenced Federal Regulations | 6/14/1990 | 5/2/1991, 56 FR 20140 |
Section .0200 Advisory Board
Section .0201 | Established; Composition; Terms of Members | 6/14/1990 | 5/2/1991, 56 FR 20140 |
Section .0202 | Secretary | 6/14/1990 | 5/2/1991, 56 FR 20140 |
Section .0203 | Meetings | 6/14/1990 | 5/2/1991, 56 FR 20140 |
Section .0204 | To Serve in Advisory Capacity; General Functions | 6/14/1990 | 5/2/1991, 56 FR 20140 |
Section .0205 | Appeals to and Other Appearances Before Board | 6/14/1990 | 5/2/1991, 56 FR 20140 |
Section .0206 | Opinions Not Binding | 6/14/1990 | 5/2/1991, 56 FR 20140 |
Section .0300 Remedies for Enforcement of Standards—Special Orders
Section .0301 | Applicability | 6/14/1990 | 5/2/1991, 56 FR 20140 |
Section .0302 | Issuance | 6/14/1990 | 5/2/1991, 56 FR 20140 |
Section .0303 | Definitions | 6/14/1990 | 5/2/1991, 56 FR 20140 |
Section .0304 | Categories of Sources | 6/14/1990 | 5/2/1991, 56 FR 20140 |
Section .0305 | Enforcement Procedures | 6/14/1990 | 5/2/1991, 56 FR 20140 |
Section .0306 | Required Procedures for Issuance of Special Orders by Consent and Special Orders | 6/14/1990 | 5/2/1991, 56 FR 20140 |
Section .0307 | Documentation for Special Orders | 6/14/1990 | 5/2/1991, 56 FR 20140 |
Section .0308 | Public Hearing | 6/14/1990 | 5/2/1991, 56 FR 20140 |
Section .0309 | Compliance Bonds | 6/14/1990 | 5/2/1991, 56 FR 20140 |
Section .0400 Forsyth County Air Quality Technical Code
Section .0401 | Adopted | 6/14/1990 | 5/2/1991, 56 FR 20140 |
Subchapter 3B Relationship to State Code
Section .0101 | In General | 6/14/1990 | 5/2/1991, 56 FR 20140 |
Section .0102 | Air Pollution Control Requirements (Subchapter 3D) | 6/14/1990 | 5/2/1991, 56 FR 20140 |
Section .0103 | Air Quality Permits (Subchapter 3Q) | 6/14/1990 | 5/2/1991, 56 FR 20140 |
Subchapter 3D Air Pollution Control Requirements
Section .0100 Definitions and References
Section .0101 | Definitions | 11/6/1998 | 2/17/2000, 65 FR 8093 |
Section .0103 | Copies of Referenced Federal Regulations | 6/14/1990 | 5/2/1991, 56 FR 20140 |
Section .0104 | Incorporation by Reference | 5/24/1999 | 10/22/2002, 67 FR 64994 |
Section .0200 Air Pollution Sources
Section .0201 | Classification of Air Pollution Sources | 6/14/1990 | 5/2/1991, 56 FR 20140 |
Section .0202 | Registration of Air Pollution Sources | 6/14/1990 | 5/2/1991, 56 FR 20140 |
Section .0300 Air Pollution Emergencies
Section .0301 | Purpose | 6/14/1990 | 5/2/1991, 56 FR 20140 |
Section .0302 | Episode Criteria | 6/14/1990 | 5/2/1991, 56 FR 20140 |
Section .0303 | Emission Reduction Plans | 6/14/1990 | 5/2/1991, 56 FR 20140 |
Section .0304 | Preplanned Abatement Program | 6/14/1990 | 5/2/1991, 56 FR 20140 |
Section .0305 | Emission Reduction Plan: Alert Level | 6/14/1990 | 5/2/1991, 56 FR 20140 |
Section .0306 | Emission Reduction Plan: Warning Level | 6/14/1990 | 5/2/1991, 56 FR 20140 |
Section .0307 | Emission Reduction Plan: Emergency Level | 6/14/1990 | 5/2/1991, 56 FR 20140 |
Section .0400 Ambient Air Quality Standards
Section .0401 | Purpose | 6/14/1990 | 5/2/1991, 56 FR 20140 |
Section .0402 | Sulfur Oxides | 6/14/1990 | 5/2/1991, 56 FR 20140 |
Section .0403 | Total Suspended Particulates | 6/14/1990 | 5/2/1991, 56 FR 20140 |
Section .0404 | Carbon Monoxide | 6/14/1990 | 5/2/1991, 56 FR 20140 |
Section .0405 | Ozone | 5/24/1999 | 10/22/2002, 67 FR 64994 |
Section .0407 | Nitrogen Dioxide | 6/14/1990 | 5/2/1991, 56 FR 20140 |
Section .0408 | Lead | 6/14/1990 | 5/2/1991, 56 FR 20140 |
Section .0409 | PM 10 Particulate Matter | 6/14/1990 | 5/2/1991, 56 FR 20140 |
Section .0410 | PM 2.5 Particulate Matter | 5/24/1999 | 10/22/2002, 67 FR 64994 |
Section .0500 Emission Control Standards
Section .0501 | Compliance With Emission Control Standards | 5/24/1999 | 10/22/2002, 67 FR 64994 |
Section .0502 | Purpose | 6/14/1990 | 5/2/1991, 56 FR 20140 |
Section .0503 | Particulates from Fuel Burning Indirect Heat Exchangers | 5/24/1999 | 10/22/2002, 67 FR 64994 |
Section .0504 | Particulates from Wood Burning Indirect Heat Exchangers | 7/22/2002 | 9/16/2003, 68 FR 54166 |
Section .0506 | Particulates from Hot Mix Asphalt Plants | 11/6/1998 | 2/17/2000, 65 FR 8053 |
Section .0507 | Particulates from Chemical Fertilizer Manufacturing Plants | 11/6/1998 | 2/17/2000, 65 FR 8053 |
Section .0508 | Particulates from Pulp and Paper Mills | 11/6/1998 | 2/17/2000, 65 FR 8053 |
Section .0509 | Particulates from MICA or FELDSPAR Processing Plants | 11/6/1998 | 2/17/2000, 65 FR 8053 |
Section .0510 | Particulates from Sand, Gravel, or Crushed Stone Operations | 11/6/1998 | 2/17/2000, 65 FR 8053 |
Section .0511 | Particulates from Lightweight Aggregate Processes | 11/6/1998 | 2/17/2000, 65 FR 8053 |
Section .0512 | Particulates from Wood Products Finishing Plants | 7/28/1997 | 12/31/1998, 63 FR 72190 |
Section .0513 | Particulates from Portland Cement Plants | 6/14/1990 | 5/2/1991, 56 FR 20140 |
Section .0514 | Particulates from Ferrous Jobbing Foundries | 6/14/1990 | 5/2/1991, 56 FR 20140 |
Section .0515 | Particulates from Miscellaneous Industrial Processes | 11/6/1998 | 2/17/2000, 65 FR 8053 |
Section .0516 | Sulfur Dioxide Emissions from Combustion Sources | 11/29/1995 | 5/26/1996, 61 FR 25789 |
Section .0517 | Emissions from Plants Producing Sulfuric Acid | 6/14/1990 | 5/2/1991, 56 FR 20140 |
Section .0519 | Control of Nitrogen Dioxide and Nitrogen Oxides Emissions | 6/14/1990 | 5/2/1991, 56 FR 20140 |
Section .0521 | Control of Visible Emissions | 11/6/1998 | 2/17/2000, 65 FR 8053 |
Section .0522 | Control and Prohibition of Odorous Emissions | 6/14/1990 | 5/2/1991, 56 FR 20140 |
Section .0524 | New Source Performance Standards | 6/14/1990 | 5/2/1991, 56 FR 20140 |
Section .0527 | Emissions from Spodumene Ore Roasting | 6/14/1990 | 5/2/1991, 56 FR 20140 |
Section .0528 | Total Reduced Sulfur from Kraft Pulp Mills | 6/14/1990 | 5/2/1991, 56 FR 20140 |
Section .0529 | Fluoride Emissions from Primary Aluminum 24 Reduction Plants | 6/14/1990 | 5/2/1991, 56 FR 20140 |
Section .0530 | Prevention of Significant Deterioration | 10/10/1997 | 12/31/1998, 63 FR 72190 |
Section .0531 | Sources in Nonattainment Areas | 11/6/1998 | 2/17/2000, 65 FR 8053 |
Section .0532 | Sources Contributing to an Ambient Violation | 6/14/1990 | 5/2/1991, 56 FR 20140 |
Section .0533 | Stack Heights | 6/14/1990 | 5/2/1991, 56 FR 20140 |
Section .0534 | Fluoride Emissions from Phosphate Fertilizer Industry | 6/14/1990 | 5/2/1991, 56 FR 20140 |
Section .0535 | Excess Emissions Reporting and Malfunctions | 11/6/1998 | 2/17/2000, 65 FR 8053 |
Section .0536 | Particulate Emissions from Electric Utility Boilers | 6/14/1990 | 5/2/1991, 56 FR 20140 |
Section .0537 | Control of Mercury Emissions | 6/14/1990 | 5/2/1991, 56 FR 20140 |
Section .0538 | Control of Ethylene Oxide Emissions | 6/14/1990 | 5/2/1991, 56 FR 20140 |
Section .0539 | Odor Control of Feed Ingredient Manufacturing Plants | 6/14/1990 | 5/2/1991, 56 FR 20140 |
Section .0540 | Particulates from Fugitive Non-Process Dust Emission Sources | 6/14/1990 | 5/2/1991, 56 FR 20140 |
Section .0541 | Control of Emissions from Abrasive Blasting | 6/14/1990 | 5/2/1991, 56 FR 20140 |
Section .0542 | Control of Particulate Emissions from Cotton Ginning Operations | 7/22/2002 | 9/16/2003, 68 FR 54163 |
Section .0600 Monitoring: Recordkeeping: Reporting
Section .0601 | Purpose and Scope | 5/24/1999 | 10/22/2002, 67 FR 64994 |
Section .0602 | Definitions | 5/24/1999 | 10/22/2002, 67 FR 64994 |
Section .0604 | Exceptions to Monitoring and Reporting Requirements | 5/24/1999 | 10/22/2002, 67 FR 64994 |
Section .0605 | General Recordkeeping and Reporting Requirements | 5/24/1999 | 10/22/2002, 67 FR 64994 |
Section .0606 | Sources Covered By Appendix P of 40 CFR Part 51 | 5/24/1999 | 10/22/2002, 67 FR 64994 |
Section .0607 | Large Wood and Wood-fossil Fuel Combination Units | 5/24/1999 | 10/22/2002, 67 FR 64994 |
Section .0611 | Monitoring Emissions from Other Sources | 5/24/1999 | 10/22/2002, 67 FR 64994 |
Section .0612 | Alternative Monitoring and Reporting Procedures | 5/24/1999 | 10/22/2002, 67 FR 64994 |
Section .0613 | Quality Assurance Program | 5/24/1999 | 10/22/2002, 67 FR 64994 |
Section .0614 | Compliance Assurance Monitoring | 5/24/1999 | 10/22/2002, 67 FR 64994 |
Section .0615 | Delegation | 6/14/1990 | 5/2/1991, 56 FR 20140 |
Section .0800 Transportation Facilities
Section .0801 | Purpose and Scope | 6/14/1990 | 5/2/1991, 56 FR 20140 |
Section .0802 | Definitions | 6/14/2000 | 5/2/1991, 56 FR 20140 |
Section .0803 | Highway Projects | 6/14/1990 | 5/2/1991, 56 FR 20140 |
Section .0804 | Airport Facilities | 6/14/1990 | 5/2/1991, 56 FR 20140 |
Section .0805 | Parking Facilities | 6/14/1990 | 5/2/1991, 56 FR 20140 |
Section .0806 | Ambient Monitoring and Modeling Analysis | 6/14/1990 | 5/2/1991, 56 FR 20140 |
Section .0900 Volatile Organic Compounds
Section .0901 | Definitions | 6/14/1990 | 5/2/1991, 56 FR 20140 |
Section .0902 | Applicability | 10/10/1997 | 12/31/1998, 63 FR 72190 |
Section .0903 | Recordkeeping: Reporting: Monitoring | 5/24/1999 | 10/22/2002, 67 FR 64994 |
Section .0906 | Circumvention | 6/14/1990 | 5/2/1991, 56 FR 20140 |
Section .0909 | Compliance Schedules for Sources in New Nonattainment Areas | 11/6/1998 | 2/17/2000, 65 FR 8053 |
Section .0912 | General Provisions on Test Methods and Procedures | 6/14/1990 | 5/2/1991, 56 FR 20140 |
Section .0913 | Determination of Volatile Content of Surface Coatings | 6/14/1990 | 5/2/1991, 56 FR 20140 |
Section .0914 | Determination of VOC Emission Control System Efficiency | 11/6/1998 | 2/17/2000, 65 FR 8053 |
Section .0915 | Determination of Solvent Metal Cleaning VOC Emissions | 6/14/1990 | 5/2/1991, 56 FR 20140 |
Section .0916 | Determination: VOC Emissions from Bulk Gasoline Terminals | 6/14/1990 | 5/2/1991, 56 FR 20140 |
Section .0917 | Automobile and Light-Duty Truck Manufacturing | 6/14/1990 | 5/2/1991, 56 FR 20140 |
Section .0918 | Can Coating | 6/14/1990 | 5/2/1991, 56 FR 20140 |
Section .0919 | Coil Coating | 6/14/1990 | 5/2/1991, 56 FR 20140 |
Section .0920 | Paper Coating | 6/14/1990 | 5/2/1991, 56 FR 20140 |
Section .0921 | Fabric and Vinyl Coating | 6/14/1990 | 5/2/1991, 56 FR 20140 |
Section .0922 | Metal Furniture Coating | 6/14/1990 | 5/2/1991, 56 FR 20140 |
Section .0923 | Surface Coating of Large Appliances | 6/14/1990 | 5/2/1991, 56 FR 20140 |
Section .0924 | Magnet Wire Coating | 6/14/1990 | 5/2/1991, 56 FR 20140 |
Section .0925 | Petroleum Liquid Storage in Fixed Roof Tanks | 6/14/1990 | 5/2/1991, 56 FR 20140 |
Section .0926 | Bulk Gasoline Plants | 6/14/1990 | 5/2/1991, 56 FR 20140 |
Section .0927 | Bulk Gasoline Terminals | 7/22/2002 | 9/16/2003, 68 FR 54166 |
Section .0928 | Gasoline Service Stations Stage I | 6/14/1990 | 5/2/1991, 56 FR 20140 |
Section .0930 | Solvent Metal Cleaning | 6/14/1990 | 5/2/1991, 56 FR 20140 |
Section .0931 | Cutback Asphalt | 6/14/1990 | 5/2/1991, 56 FR 20140 |
Section .0932 | Gasoline Truck Tanks and Vapor Collection Systems | 7/22/2002 | 9/16/2003, 68 FR 54166 |
Section .0933 | Petroleum Liquid Storage in External Floating Roof Tanks | 6/14/1990 | 5/2/1991, 56 FR 20140 |
Section .0934 | Coating of Miscellaneous Metal Parts and Products | 6/14/1990 | 5/2/1991, 56 FR 20140 |
Section .0935 | Factory Surface Coating of Flat Wood Paneling | 6/14/1990 | 5/2/1991, 56 FR 20140 |
Section .0936 | Graphic Arts | 6/14/1990 | 5/2/1991, 56 FR 20140 |
Section .0937 | Manufacture of Pneumatic Rubber Tires | 6/14/1990 | 5/2/1991, 56 FR 20140 |
Section .0939 | Determination of Volatile Organic Compound Emissions | 6/14/1990 | 5/2/1991, 56 FR 20140 |
Section .0940 | Determination of Leak Tightness and Vapor Leaks | 6/14/1990 | 5/2/1991, 56 FR 20140 |
Section .0941 | Alternative Method for Leak Tightness | 6/14/1990 | 5/2/1991, 56 FR 20140 |
Section .0942 | Determination of Solvent in Filter Waste | 6/14/1990 | 5/2/1991, 56 FR 20140 |
Section .0943 | Synthetic Organic Chemical and Polymer Manufacturing | 6/14/1990 | 5/2/1991, 56 FR 20140 |
Section .0944 | Manufacture of Polyethylene, Polypropylene and Polystyrene | 6/14/1990 | 5/2/1991, 56 FR 20140 |
Section .0945 | Petroleum Dry Cleaning | 6/14/1990 | 5/2/1991, 56 FR 20140 |
Section .0947 | Manufacture of Synthesized Pharmaceutical Products | 6/14/1990 | 5/2/1991, 56 FR 20140 |
Section .0948 | VOC Emissions from Transfer Operations | 6/14/1990 | 5/2/1991, 56 FR 20140 |
Section .0949 | Storage of Miscellaneous Volatile Organic Compounds | 6/14/1990 | 5/2/1991, 56 FR 20140 |
Section .0951 | Miscellaneous Volatile Organic Compound Emissions | 6/14/1990 | 5/2/1991, 56 FR 20140 |
Section .0952 | Petition for Alternative Controls | 11/29/1995 | 5/23/1996, 61 FR 25789 |
Section .0953 | Vapor Return Piping for Stage II Vapor Recovery | 11/6/1998 | 2/17/2000, 65 FR 8053 |
Section .0954 | Stage II Vapor Recovery | 10/10/1997 | 12/31/1998, 63 FR 72190 |
Section .0955 | Thread Bonding Manufacturing | 11/29/1995 | 5/23/1996, 61 FR 25789 |
Section .0956 | Glass Christmas Ornament Manufacturing | 11/29/1995 | 5/23/1996, 61 FR 25789 |
Section .0957 | Commercial Bakeries | 11/29/1995 | 5/23/1996, 61 FR 25789 |
Section .0958 | Work Practices for Sources of Volatile Organic Compounds | 6/14/1990 | 5/2/1991, 56 FR 20140 |
Section .1200 Control of Emissions from Incinerators 111(a)
Section .1201 | Purpose and Scope | 6/14/1990 | 5/2/1991, 56 FR 20140 |
Section .1202 | Definitions | 6/14/1990 | 5/2/1991, 56 FR 20140 |
Section .1900 Open Burning
Section .1901 | Purpose, Scope, and Impermissible Open Burning | 7/1/1996 | 8/1/1997, 62 FR 41277 |
Section .1902 | Definitions | 6/14/1990 | 5/2/1991, 56 FR 20140 |
Section .1903 | Permissible Open Burning | 10/25/1999 | 8/8/2002, 67 FR 51763 |
Section .1904 | Air Curtain Burners | 6/14/1990 | 5/2/1991, 56 FR 20140 |
Section .1905 | Office Location | 6/14/1990 | 5/2/1991, 56 FR 20140 |
Subchapter 3Q Air Quality Permits
Section .0100 General Provisions
Section .0101 | Required Air Quality Permits | 11/6/1998 | 2/17/2000, 65 FR 8053 |
Section .0102 | Activities Exempted from Permit Requirements | 7/22/2002 | 9/16/2003, 68 FR 54166 |
Section .0103 | Definitions | 5/24/1999 | 10/22/2002, 67 FR 64994 |
Section .0104 | Where to Obtain and File Permit Applications | 10/10/1997 | 12/31/1998, 63 FR 72190 |
Section .0107 | Confidential Information | 5/24/1999 | 10/22/2002, 67 FR 64994 |
Section .0200 Permit Fees
Section .0207 | Annual Emissions Reporting | 11/6/1998 | 2/17/2000, 65 FR 8053 |
Section .0300 Construction and Operation Permit
Section .0301 | Applicability | 11/6/1998 | 2/17/2000, 65 FR 8053 |
Section .0302 | Facilities Not Likely to Contravene Demonstration | 11/6/1998 | 2/17/2000, 65 FR 8053 |
Section .0303 | Definitions | 6/14/1990 | 5/2/1991, 56 FR 20140 |
Section .0304 | Applications | 07/1/1999 | 10/22/2002, 67 FR 64994 |
Section .0305 | Application Submittal Content | 6/14/1990 | 5/2/1991, 56 FR 20140 |
Section .0306 | Permits Requiring Public Participation | 7/1/1999 | 10/22/2002, 67 FR 64994 |
Section .0307 | Public Participation Procedures | 10/10/1997 | 12/31/1998, 63 FR 72190 |
Section .0308 | Final Action on Permit Applications | 3/14/1995 | 2/1/1996, 61 FR 3586 |
Section .0309 | Termination, Modification and Revocation of Permits | 7/1/1999 | 10/22/2002, 67 FR 64994 |
Section .0310 | Permitting of Numerous Similar Facilities | 6/14/1990 | 5/2/1991, 56 FR 20140 |
Section .0311 | Permitting of Facilities at Multiple Temporary Sites | 6/14/1990 | 5/2/1991, 56 FR 20140 |
Section .0312 | Application Processing Schedule | 11/6/1998 | 2/17/2000, 65 FR 8053 |
Section .0314 | General Permit Requirements | 5/24/1999 | 10/22/2002, 67 FR 64994 |
Section .0315 | Synthetic Minor Facilities | 7/1/1999 | 10/22/2002, 67 FR 64994 |
Section .0800 Exclusionary Rules
Section .0801 | Purpose and Scope | 5/24/1999 | 10/22/2002, 67 FR 64994 |
Section .0802 | Gasoline Service Stations and Dispensing Facilities | 6/14/1990 | 5/2/1991, 56 FR 20140 |
Section .0803 | Coating, Solvent Cleaning, Graphic Arts Operations | 7/30/1999 | 10/22/2002, 75 FR 64994 |
Section .0804 | Dry Cleaning Facilities | 6/14/1990 | 5/2/1991, 56 FR 20140 |
Section .0805 | Grain Elevators | 11/6/1998 | 2/17/2000, 65 FR 8093 |
Section .0806 | Cotton Gins | 11/6/1998 | 2/17/2000, 65 FR 8093 |
Section .0807 | Emergency Generators | 11/6/1998 | 2/17/2000, 65 FR 8093 |
Section .0808 | Peak Shaving Generators | 7/1/1999 | 10/22/2002, 67 FR 64990 |

(3) EPA Approved Mecklenburg County Regulations
State citation | Title/subject | State effective date | EPA approval date | Explanation
Article 1.000 Permitting Provisions for Air Pollution Sources, Rules and Operating Regulations for Acid Rain Sources, Title V and Toxic Air Pollutants
Section 1.5100 General Provisions and Administrations
Section 1.5101 | Declaration of Policy | 6/14/1990 | 5/2/1991, 56 FR 20140 |
Section 1.5102 | Definition of Terms | 11/21/2000 | 10/22/2002, 67 FR 64999 |
Section 1.5103 | Enforcement Agency | 6/14/1990 | 5/2/1991, 56 FR 20140 |
Section 1.5104 | General Duties and Powers of the Director, With the Approval of the Board | 6/14/1990 | 5/2/1991, 56 FR 20140 |
Section 1.5111 | General Recordkeeping, Reporting and Monitoring Requirements | 7/1/1996 | 6/30/2003, 68 FR 38632 |
Section 1.5200 Air Quality Permits
Section 1.5210 | Purpose and Scope | 6/14/1990 | 5/2/1991, 56 FR 20140 |
Section 1.5211 | Applicability | 11/21/2000 | 10/22/2002, 67 FR 64999 |
Section 1.5212 | Applications | 7/1/1996 | 6/30/2003, 68 FR 38632 |
Section 1.5213 | Action on Application; Issuance of Permit | 7/1/1996 | 6/30/2003, 68 FR 38632 |
Section 1.5214 | Commencement of Operation | 7/1/1996 | 6/30/2003, 68 FR 38632 |
Section 1.5215 | Application Processing Schedule | 7/1/1996 | 6/30/2003, 68 FR 38632 |
Section 1.5216 | Incorporated By Reference | 6/6/1994 | 7/28/1995, 60 FR 38715 |
Section 1.5217 | Confidential Information | 6/14/1990 | 5/2/1991, 56 FR 20140 |
Section 1.5218 | Compliance Schedule for Previously Exempted Activities | 6/14/1990 | 5/2/1991, 56 FR 20140 |
Section 1.5219 | Retention of Permit at Permitted Facility | 6/6/1994 | 7/28/1995, 60 FR 38715 |
Section 1.5220 | Applicability Determinations | 6/14/1990 | 5/2/1991, 56 FR 20140 |
Section 1.5221 | Permitting of Numerous Similar Facilities | 6/6/1994 | 7/28/1995, 60 FR 38715 |
Section 1.5222 | Permitting of Facilities at Multiple Temporary Sites | 6/6/1994 | 7/28/1995, 60 FR 38715 |
Section 1.5230 | Permitting Rules and Procedures | 6/14/1990 | 5/2/1991, 56 FR 20140 |
Section 1.5231 | Air Quality Fees | 7/1/1996 | 6/30/2003, 68 FR 38632 |
Section 1.5232 | Issuance, Revocation, and Enforcement of Permits | 7/1/1996 | 6/30/2003, 68 FR 38632 |
Section 1.5234 | Hearings | 6/6/1994 | 7/28/1995, 60 FR 38715 |
Section 1.5235 | Expedited Application Processing Schedule | 6/14/1990 | 5/2/1991, 56 FR 20140 |
Section 1.5300 Enforcement; Variances; Judicial Review
Section 1.5301 | Special Enforcement Procedures | 6/14/1990 | 5/2/1991, 56 FR 20140 |
Section 1.5302 | Criminal Penalties | 6/14/1990 | 5/2/1991, 56 FR 20140 |
Section 1.5303 | Civil Injunction | 6/14/1990 | 5/2/1991, 56 FR 20140 |
Section 1.5304 | Civil Penalties | 6/14/1990 | 5/2/1991, 56 FR 20140 |
Section 1.5305 | Variances | 7/1/1996 | 6/30/2003, 68 FR 38632 |
Section 1.5306 | Hearings | 7/1/1996 | 6/30/2003, 68 FR 38632 |
Section 1.5307 | Judicial Review | 6/14/1990 | 5/2/1991, 56 FR 20140 |
Section 1.5600 Transportation Facility Procedures
Section 1.5604 | Public Participation | 7/1/1996 | 6/30/2003, 68 FR 38632 |
Section 1.5607 | Application Processing Schedule | 7/1/1996 | 6/30/2003, 68 FR 38632 |
Article 2.0000 Air Pollution Control Regulations and Procedures
Section 2.0100 Definitions and References
Section 2.0101 | Definitions | 6/14/1990 | 5/2/1991, 56 FR 20140 |
Section 2.0104 | Incorporated By Reference | 6/14/1990 | 5/2/1991, 56 FR 20140 |
Section 2.0200 Air Pollution Sources
Section 2.0201 | Classification of Air Pollution Sources | 6/14/1990 | 5/2/1991, 56 FR 20140 |
Section 2.0202 | Registration of Air Pollution Sources | 6/14/1990 | 5/2/1991, 56 FR 20140 |
Section 2.0300 Air Pollution Emergencies
Section 2.0301 | Purpose | 6/14/1990 | 5/2/1991, 56 FR 20140 |
Section 2.0302 | Episode Criteria | 6/14/1990 | 5/2/1991, 56 FR 20140 |
Section 2.0303 | Emission Reduction Plans | 6/14/1990 | 5/2/1991, 56 FR 20140 |
Section 2.0304 | Preplanned Abatement Program | 6/14/1990 | 5/2/1991, 56 FR 20140 |
Section 2.0305 | Emission Reduction Plan: Alert Level | 6/14/1990 | 5/2/1991, 56 FR 20140 |
Section 2.0306 | Emission Reduction Plan: Warning Level | 6/14/1990 | 5/2/1991, 56 FR 20140 |
Section 2.0307 | Emission Reduction Plan: Emergency Level | 6/14/1990 | 5/2/1991, 56 FR 20140 |
Section 2.0400 Ambient Air Quality Standards
Section 2.0401 | Purpose | 6/14/1990 | 5/2/1991, 56 FR 20140 |
Section 2.0402 | Sulfur Oxides | 6/14/1990 | 5/2/1991, 56 FR 20140 |
Section 2.0403 | Total Suspended Particulates | 6/14/1990 | 5/2/1991, 56 FR 20140 |
Section 2.0404 | Carbon Monoxide | 6/14/1990 | 5/2/1991, 56 FR 20140 |
Section 2.0405 | Ozone | 6/14/1990 | 5/2/1991, 56 FR 20140 |
Section 2.0407 | Nitrogen Dioxide | 6/14/1990 | 5/2/1991, 56 FR 20140 |
Section 2.0408 | Lead | 6/14/1990 | 5/2/1991, 56 FR 20140 |
Section 2.0409 | PM10 Particulate Matter | 6/14/1990 | 5/2/1991, 56 FR 20140 |
Section 2.0500 Emission Control Standards
Section 2.0501 | Compliance With Emission Control Standards | 6/14/1990 | 5/2/1991, 56 FR 20140 |
Section 2.0502 | Purpose | 6/14/1990 | 5/2/1991, 56 FR 20140 |
Section 2.0503 | Particulates from Fuel Burning Indirect Heat Exchangers | 6/14/1990 | 5/2/1991, 56 FR 20140 |
Section 2.0504 | Particulates from Wood Burning Indirect Heat Exchangers | 6/14/1990 | 5/2/1991, 56 FR 20140 |
Section 2.0506 | Particulates from Hot Mix Asphalt Plants | 6/14/1990 | 5/2/1991, 56 FR 20140 |
Section 2.0507 | Particulates from Chemical Fertilizer Manufacturing Plants | 6/14/1990 | 5/2/1991, 56 FR 20140 |
Section 2.0508 | Particulates from Pulp and Paper Mills | 6/14/1990 | 5/2/1991, 56 FR 20140 |
Section 2.0509 | Particulates from MICA or FELDSPAR Processing Plants | 6/14/1990 | 5/2/1991, 56 FR 20140 |
Section 2.0510 | Particulates from Sand, Gravel, or Crushed Stone Operations | 6/14/1990 | 5/2/1991, 56 FR 20140 |
Section 2.0511 | Particulates from Lightweight Aggregate Processes | 6/14/1990 | 5/2/1991, 56 FR 20140 |
Section 2.0512 | Particulates from Wood Products Finishing Plants | 6/14/1990 | 5/2/1991, 56 FR 20140 |
Section 2.0513 | Particulates from Portland Cement Plants | 6/14/1990 | 5/2/1991, 56 FR 20140 |
Section 2.0514 | Particulates from Ferrous Jobbing Foundries | 6/14/1990 | 5/2/1991, 56 FR 20140 |
Section 2.0515 | Particulates from Miscellaneous Industrial Processes | 6/14/1990 | 5/2/1991, 56 FR 20140 |
Section 2.0516 | Sulfur Dioxide Emissions from Combustion Sources | 6/14/1990 | 5/2/1991, 56 FR 20140 |
Section 2.0517 | Emissions From Plants Producing Sulfuric Acid | 6/14/1990 | 5/2/1991, 56 FR 20140 |
Section 2.0518 | Miscellaneous Volatile Organic Compound Emissions | 11/21/2000 | 10/22/2002, 67 FR 64999 |
Section 2.0519 | Control of Nitrogen Dioxide and Nitrogen Oxides Emissions | 6/14/1990 | 5/2/1991, 56 FR 20140 |
Section 2.0523 | Control of Conical Incinerators | 11/21/2000 | 10/22/2002, 67 FR 64999 |
Section 2.0527 | Emissions from Spodumene Ore Roasting | 6/14/1990 | 5/2/1991, 56 FR 20140 |
Section 2.0530 | Prevention of Significant Deterioration | 6/14/1990 | 5/2/1991, 56 FR 20140 |
Section 2.0531 | Sources in Nonattainment Areas | 6/14/1990 | 5/2/1991, 56 FR 20140 |
Section 2.0532 | Sources Contributing to an Ambient Violation | 6/14/1990 | 5/2/1991, 56 FR 20140 |
Section 2.0533 | Stack Height | 6/14/1990 | 5/2/1991, 56 FR 20140 |
Section 2.0535 | Excess Emissions Reporting and Malfunctions | 6/14/1990 | 5/2/1991, 56 FR 20140 |
Section 2.0538 | Control of Ethylene Oxide Emissions | 6/14/1990 | 5/2/1991, 56 FR 20140 |
Section 2.0539 | Odor Control of Feed Ingredient Manufacturing Plants | 6/14/1990 | 5/2/1991, 56 FR 20140 |
Section 2.0600 Monitoring: Recordkeeping: Reporting
Section 2.0601 | Purpose and Scope | 6/14/1990 | 5/2/1991, 56 FR 20140 |
Section 2.0602 | Definitions | 6/14/1990 | 5/2/1991, 56 FR 20140 |
Section 2.0604 | Exceptions to Monitoring and Reporting Requirements | 6/14/1990 | 5/2/1991, 56 FR 20140 |
Section 2.0605 | General Recordkeeping and Reporting Requirements | 6/14/1990 | 5/2/1991, 56 FR 20140 |
Section 2.0606 | Sources Covered by Appendix P of 40 CFR Part 51 | 06/14/1991 | 5/2/1991, 56 FR 20140 |
Section 2.0607 | Large Wood and Wood-Fossil Fuel Combination Units | 6/14/1990 | 5/2/1991, 56 FR 20140 |
Section 2.0608 | Other Large Coal or Residual Oil Burners | 6/14/1990 | 5/2/1991, 56 FR 20140 |
Section 2.0610 | Federal Monitoring Requirements | 11/21/2000 | 10/22/2002, 67 FR 64999 |
Section 2.0611 | Monitoring Emissions From Other Sources | 6/14/1990 | 5/2/1991, 56 FR 20140 |
Section 2.0612 | Alternative Monitoring and Reporting Procedures | 6/14/1990 | 5/2/1991, 56 FR 20140 |
Section 2.0613 | Quality Assurance Program | 6/14/1990 | 5/2/1991, 56 FR 20140 |
Section 2.0614 | Compliance Assurance Monitoring | 6/14/1990 | 5/2/1991, 56 FR 20140 |
Section 2.0615 | Delegation | 6/14/1990 | 5/2/1991, 56 FR 20140 |
Section 2.0800 Transportation Facilities
Section 2.0801 | Purpose and Scope | 6/14/1990 | 5/2/1991, 56 FR 20140 |
Section 2.0802 | Definitions | 6/14/1990 | 5/2/1991, 56 FR 20140 |
Section 2.0803 | Highway Projects | 6/14/1990 | 5/2/1991, 56 FR 20140 |
Section 2.0804 | Airport Facilities | 6/14/1990 | 5/2/1991, 56 FR 20140 |
Section 2.0900 Volatile Organic Compounds
Section 2.0901 | Definitions | 3/1/1991 | 6/23/1994, 59 FR 32362 |
Section 2.0902 | Applicability | 10/16/2004 | 9/12/07, 72 FR 52012 |
Section 2.0903 | Recordkeeping: Reporting: Monitoring | 7/1/1991 | 6/23/1994, 59 FR 32362 |
Section 2.0906 | Circumvention | 6/14/1990 | 5/2/1991, 56 FR 20140 |
Section 2.0907 | Equipment Installation Compliance Schedule | 6/14/1990 | 5/2/1991, 56 FR 20140 |
Section 2.0909 | Compliance Schedules for Sources In New Nonattainment Areas | 6/14/1990 | 5/2/1991, 56 FR 20140 |
Section 2.0910 | Alternate Compliance Schedule | 6/14/1990 | 5/2/1991, 56 FR 20140 |
Section 2.0912 | General Provisions on Test Methods and Procedures | 7/1/1991 | 6/23/1994, 59 FR 32362 |
Section 2.0913 | Determination of Volatile Content of Surface Coatings | 3/1/1991 | 6/23/1994, 59 FR 32362 |
Section 2.0914 | Determination of VOC Emission Control System Efficiency | 6/14/1990 | 5/2/1991, 56 FR 20140 |
Section 2.0915 | Determination of Solvent Metal Cleaning VOC Emissions | 6/14/1990 | 5/2/1991, 56 FR 20140 |
Section 2.0916 | Determination: VOC Emissions From Bulk Gasoline Terminals | 6/14/1990 | 5/2/1991, 56 FR 20140 |
Section 2.0917 | Automobile and Light-Duty Truck Manufacturing | 6/14/1990 | 5/2/1991, 56 FR 20140 |
Section 2.0918 | Can Coating | 6/14/1990 | 5/2/1991, 56 FR 20140 |
Section 2.0919 | Coil Coating | 6/14/1990 | 5/2/1991, 56 FR 20140 |
Section 2.0920 | Paper Coating | 6/14/1990 | 5/2/1991, 56 FR 20140 |
Section 2.0921 | Fabric and Vinyl Coating | 6/14/1990 | 5/2/1991, 56 FR 20140 |
Section 2.0922 | Metal Furniture Coating | 6/14/1990 | 5/2/1991, 56 FR 20140 |
Section 2.0923 | Surface Coating of Large Appliances | 6/14/1990 | 5/2/1991, 56 FR 20140 |
Section 2.0924 | Magnet Wire Coating | 6/14/1990 | 5/2/1991, 56 FR 20140 |
Section 2.0925 | Petroleum Liquid Storage in Fixed Roof Tanks | 3/1/1991 | 6/23/1994, 59 FR 32362 |
Section 2.0926 | Bulk Gasoline Plants | 3/1/1991 | 6/23/1994, 59 FR 32362 |
Section 2.0927 | Bulk Gasoline Terminals | 6/14/1990 | 5/2/1991, 56 FR 20140 |
Section 2.0928 | Gasoline Service Stations Stage I | 3/1/1991 | 6/23/1994, 59 FR 32362 |
Section 2.0929 | Petroleum Refinery | 3/1/1991 | 6/23/1994, 59 FR 32362 |
Section 2.0930 | Solvent Metal Cleaning | 3/1/1991 | 6/23/1994, 59 FR 32362 |
Section 2.0931 | Cutback Asphalt | 6/14/1990 | 5/2/1991, 56 FR 20140 |
Section 2.0932 | Gasoline Truck Tanks and Vapor Collection Systems | 6/14/1990 | 5/2/1991, 56 FR 20140 |
Section 2.0933 | Petroleum Liquid Storage In External Floating Roof Tanks | 10/16/2004 | 9/12/07, 72 FR 52012 |
Section 2.0934 | Coating of Miscellaneous Metal Parts and Products | 3/1/1991 | 6/23/1994, 59 FR 32362 |
Section 2.0935 | Factory Surface Coating of Flat Wood Paneling | 6/14/1990 | 5/2/1991, 56 FR 20140 |
Section 2.0936 | Graphic Arts | 6/14/1990 | 5/2/1991, 56 FR 20140 |
Section 2.0937 | Manufacture of Pneumatic Rubber Tires | 6/14/1990 | 5/2/1991, 56 FR 20140 |
Section 2.0939 | Determination of Volatile Organic Compound Emissions | 6/14/1990 | 5/2/1991, 56 FR 20140 |
Section 2.0940 | Determination of Leak Tightness and Vapor Leaks | 6/14/1990 | 5/2/1991, 56 FR 20140 |
Section 2.0941 | Alternative Method for Leak Tightness | 6/14/1990 | 5/2/1991, 56 FR 20140 |
Section 2.0942 | Determination of Solvent in Filter Waste | 6/14/1990 | 5/2/1991, 56 FR 20140 |
Section 2.0943 | Synthetic Organic Chemical and Polymer Manufacturing | 3/1/1991 | 6/23/1994, 59 FR 32362 |
Section 2.0944 | Manufacture of Polyethylene, Polypropylene and Polystyrene | 3/1/1991 | 6/23/1994, 59 FR 32362 |
Section 2.0945 | Petroleum Dry Cleaning | 6/14/1990 | 5/2/1991, 56 FR 20140 |
Section 2.0951 | Miscellaneous Volatile Organic Compound Emissions | 7/1/2000 | 10/22/2002, 67 FR 64999 |
Section 2.0958 | Work Practices for Sources of Volatile Organic Compounds | 7/1/2000 | 10/22/2002, 67 FR 64999 |

(4) EPA Approved Western North Carolina Regulations
State citation | Title/subject | State effective date | EPA approval date | Explanation
Chapter 1 Resolution, Organization, Administration
Section .0101 | Resolution | 6/14/1990 | 5/2/1991, 56 FR 20140 |
Section .0102 | Ordinance | 6/14/1990 | 5/2/1991, 56 FR 20140 |
Section .0103 | Authority | 6/14/1990 | 5/2/1991, 56 FR 20140 |
Section .0104 | Organization | 6/14/1990 | 5/2/1991, 56 FR 20140 |
Section .0105 | General Powers and Duties of Director | 6/14/1990 | 5/2/1991, 56 FR 20140 |
Section .0106 | Authority of Director to Establish Administrative Procedures | 6/14/1990 | 5/2/1991, 56 FR 20140 |
Section .0107 | Administrative Procedures | 6/14/1990 | 5/2/1991, 56 FR 20140 |
Section .0108 | Appeals to and Other Appearances Before Board | 6/14/1990 | 5/2/1991, 56 FR 20140 |
Section .0109 | Penalties for Violation | 6/14/1990 | 5/2/1991, 56 FR 20140 |
Section .0110 | Civil Relief for Violation | 6/14/1990 | 5/2/1991, 56 FR 20140 |
Section .0111 | Fees for Inspection, Permits, and Certificates | 6/14/1990 | 5/2/1991, 56 FR 20140 |
Section .0112 | Chapter does not Prohibit Private Actions for Relief | 6/14/1990 | 5/2/1991, 56 FR 20140 |
Section .0113 | Judicial Review of Administration, Decisions Rendered Under Chapter | 6/14/1990 | 5/2/1991, 56 FR 20140 |
Section .0114 | Opinions Not Binding | 6/14/1990 | 5/2/1991, 56 FR 20140 |
Chapter 4 Air Pollution Control Requirements
Section .0100 Definitions and References
Section .0101 | Definitions | 9/15/1994 | 7/28/1998, 60 FR 38707 |
Section .0103 | Copies of Referenced Federal Regs | 6/14/1990 | 5/2/1991, 56 FR 20140 |
Section .0104 | Incorporation by Reference | 6/14/1990 | 5/2/1991, 56 FR 20140 |
Section .0200 Air Pollution Sources
Section .0201 | Classification of Air Pollution Sources | 6/14/1990 | 5/2/1991, 56 FR 20140 |
Section .0202 | Registration of Air Pollution Sources | 6/14/1990 | 5/2/1991, 56 FR 20140 |
Section .0300 Air Pollution Emergencies
Section .0301 | Purpose | 6/14/1990 | 5/2/1991, 56 FR 20140 |
Section .0302 | Episode Criteria | 6/14/1990 | 5/2/1991, 56 FR 20140 |
Section .0303 | Emission Reduction Plans | 6/14/1990 | 5/2/1991, 56 FR 20140 |
Section .0304 | Preplanned Abatement Program | 6/14/1990 | 5/2/1991, 56 FR 20140 |
Section .0305 | Emission Reduction Plan—Alert Level | 6/14/1990 | 5/2/1991, 56 FR 20140 |
Section .0306 | Emission Reduction Plan—Warning Level | 6/14/1990 | 5/2/1991, 56 FR 20140 |
Section .0307 | Emission Reduction Plan—Emergency Level | 6/14/1990 | 5/2/1991, 56 FR 20140 |
Section .0400 Ambient Air Quality Standards
Section .0401 | Purpose | 6/14/1990 | 5/2/1991, 56 FR 20140 |
Section .0402 | Sulfur Oxides | 6/14/1990 | 5/2/1991, 56 FR 20140 |
Section .0403 | Total Suspended Particulate | 6/14/1990 | 5/2/1991, 56 FR 20140 |
Section .0404 | Carbon Monoxide | 6/14/1990 | 5/2/1991, 56 FR 20140 |
Section .0405 | Ozone | 6/14/1990 | 5/2/1991, 56 FR 20140 |
Section .0407 | Nitrogen Dioxide | 6/14/1990 | 5/2/1991, 56 FR 20140 |
Section .0408 | Lead | 6/14/1990 | 5/2/1991, 56 FR 20140 |
Section .0409 | Particulate Matter | 6/14/1990 | 5/2/1991, 56 FR 20140 |
Section .0500 Emission Control Standards
Section .0501 | Compliance with Emissions Control Standards | 9/15/1994 | 7/28/1998, 60 FR 38707 |
Section .0502 | Purpose | 6/14/1990 | 5/2/1991, 56 FR 20140 |
Section .0503 | Particulates from Fuel Burning Indirect Heat Exchangers | 9/15/1994 | 7/28/1998, 60 FR 38707 |
Section .0504 | Particulates from Wood Burning Indirect Heat Exchangers | 6/14/1990 | 5/2/1991, 56 FR 20140 |
Section .0506 | Control of Particulates from Hot Mix Asphalt Plants | 6/14/1990 | 5/2/1991, 56 FR 20140 |
Section .0507 | Particulates from Chemical Fertilizer Manufacturing Plants | 6/14/1990 | 5/2/1991, 56 FR 20140 |
Section .0508 | Control of Particulates from Pulp and Paper Mills | 6/14/1990 | 5/2/1991, 56 FR 20140 |
Section .0509 | Particulates from Mica or Feld Spar Processing Plants | 6/14/1990 | 5/2/1991, 56 FR 20140 |
Section .0510 | Particulates-Sand, Gravel, or Crushed Stone Operations | 6/14/1990 | 5/2/1991, 56 FR 20140 |
Section .0511 | Particulates from Lightweight Aggregate Processes | 6/14/1990 | 5/2/1991, 56 FR 20140 |
Section .0512 | Particulates from Wood Products Finishing Plants | 6/14/1990 | 5/2/1991, 56 FR 20140 |
Section .0513 | Control of Particulates from Portland Cement Plants | 6/14/1990 | 5/2/1991, 56 FR 20140 |
Section .0514 | Control of Particulates from Ferrous Jobbing Foundries | 9/15/1994 | 7/28/1998, 60 FR 38707 |
Section .0515 | Particulates from Miscellaneous Industrial Processes | 6/14/1990 | 5/2/1991, 56 FR 20140 |
Section .0516 | Sulfur Dioxide from Combustion Sources | 6/14/1990 | 5/2/1991, 56 FR 20140 |
Section .0517 | Emissions from Plants Producing Sulfuric Acid | 6/14/1990 | 5/2/1991, 56 FR 20140 |
Section .0518 | Miscellaneous Volatile Organic Compound Emissions | 6/14/1990 | 5/2/1991, 56 FR 20140 |
Section .0519 | Control of Nitrogen Dioxide and Nitrogen Oxides Emissions | 6/14/1990 | 5/2/1991, 56 FR 20140 |
Section .0521 | Control of Visible Emissions | 6/14/1990 | 5/2/1991, 56 FR 20140 |
Section .0523 | Control of Conical Incinerators | 6/14/1990 | 5/2/1991, 56 FR 20140 |
Section .0527 | Emissions from Spodumene Ore Roasting | 6/14/1990 | 5/2/1991, 56 FR 20140 |
Section .0528 | Total Reduced Sulfur from Kraft Pulp Mills | 6/14/1990 | 5/2/1991, 56 FR 20140 |
Section .0530 | Prevention of Significant Deterioration | 9/15/1994 | 7/28/1998, 60 FR 38707 |
Section .0532 | Sources Contributing to an Ambient Violation | 9/15/1994 | 7/28/1998, 60 FR 38707 |
Section .0533 | Stack Height | 6/14/1990 | 5/2/1991, 56 FR 20140 |
Section .0535 | Excess Emissions Reporting and Malfunctions | 6/14/1990 | 5/2/1991, 56 FR 20140 |
Section .0536 | Particulate Emissions from Electric Utility Boilers | 6/14/1990 | 5/2/1991, 56 FR 20140 |
Section .0540 | Particulates from Fugitive Non-process Dust Emission Sources | 6/14/1990 | 5/2/1991, 56 FR 20140 |
Section .0600 Air Pollutants: Monitoring, Reporting
Section .0601 | Purpose and Scope |  |  |
Section .0602 | Definitions | 6/14/1990 | 5/2/1991, 56 FR 20140 |
Section .0604 | Sources Covered by Implementation Plan Requirements | 6/14/1990 | 5/2/1991, 56 FR 20140 |
Section .0605 | Wood and Wood-Fossil Fuel Combination Units | 6/14/1990 | 5/2/1991, 56 FR 20140 |
Section .0606 | Other Coal or Residual Oil Burners | 6/14/1990 | 5/2/1991, 56 FR 20140 |
Section .0607 | Exceptions to Monitoring and Reporting Requirements | 6/14/1990 | 5/2/1991, 56 FR 20140 |
Section .0608 | Program | 6/14/1990 | 5/2/1991, 56 FR 20140 |
Schedule .0610 | Delegation | 6/14/1990 | 5/2/1991, 56 FR 20140 |
Section .0800 Transportation Facilities
Section .0801 | Purpose and Scope | 6/14/1990 | 5/2/1991, 56 FR 20140 |
Section .0802 | Definitions | 6/14/1990 | 5/2/1991, 56 FR 20140 |
Section .0803 | Highway Projects | 6/14/1990 | 5/2/1991, 56 FR 20140 |
Section .0804 | Airport Facilities | 6/14/1990 | 5/2/1991, 56 FR 20140 |
Section .0805 | Parking Facilities | 6/14/1990 | 5/2/1991, 56 FR 20140 |
Section .0806 | Ambient Monitoring and Modeling Analysis | 6/14/1990 | 5/2/1991, 56 FR 20140 |
Section .0900 Volatile Organic Compounds
Section .0901 | Definitions | 6/14/1990 | 5/2/1991, 56 FR 20140 |
Section .0902 | Applicability | 6/14/1990 | 5/2/1991, 56 FR 20140 |
Section .0903 | Recordkeeping: Reporting, Monitoring | 6/14/1990 | 5/2/1991, 56 FR 20140 |
Section .0906 | Circumvention | 6/14/1990 | 5/2/1991, 56 FR 20140 |
Section .0912 | General Provisions on Test Methods and Procedures | 6/14/1990 | 5/2/1991, 56 FR 20140 |
Section .0913 | Determination of Volatile Content of Surface Coatings | 6/14/1990 | 5/2/1991, 56 FR 20140 |
Section .0914 | Determination of VOC Emission Control System Efficiency | 6/14/1990 | 5/2/1991, 56 FR 20140 |
Section .0915 | Determination of Solvent Metal Cleaning VOC Emissions | 6/14/1990 | 5/2/1991, 56 FR 20140 |
Section .0925 | Petroleum Liquid in Fixed Roof Tank | 6/14/1990 | 5/2/1991, 56 FR 20140 |
Section .0926 | Bulk Gasoline Plants | 6/14/1990 | 5/2/1991, 56 FR 20140 |
Section .0927 | Bulk Gasoline Terminals | 6/14/1990 | 5/2/1991, 56 FR 20140 |
Section .0928 | Gasoline Service Stations Stage I | 6/14/1990 | 5/2/1991, 56 FR 20140 |
Section .0932 | Gasoline Truck Tanks and Vapor Collection Systems | 6/14/1990 | 5/2/1991, 56 FR 20140 |
Section .0933 | Petroleum Liquid Storage in External Roof Tanks | 6/14/1990 | 5/2/1991, 56 FR 20140 |
Section .1900 Control of Open Burning
Section .1901 | Purpose, Scope, and Impermissible Open Burning | 6/14/1990 | 5/2/1991, 56 FR 20140 |
Section .1902 | Definitions | 6/14/1990 | 5/2/1991, 56 FR 20140 |
Section .1903 | Permissible Open Burning Without a Permit | 6/14/1990 | 5/2/1991, 56 FR 20140 |
Section .1904 | Air Curtain Burners | 6/14/1990 | 5/2/1991, 56 FR 20140 |
Section .1906 | Delegation To County Governments | 6/14/1990 | 5/2/1991, 56 FR 20140 |
Chapter 17 Air Quality Permits Procedures
Section .0100 General Provisions
Section .0101 | Required Air Quality Permits | 6/14/1990 | 5/2/1991, 56 FR 20140 |
Section .0102 | Activities Exempted from Permit Requirements | 6/14/1990 | 5/2/1991, 56 FR 20140 |
Section .0103 | Definitions | 6/14/1990 | 5/2/1991, 56 FR 20140 |
Section .0104 | Where to Obtain and File Permit Applications | 6/14/1990 | 5/2/1991, 56 FR 20140 |
Section .0105 | Copies of Referenced Documents | 6/14/1990 | 5/2/1991, 56 FR 20140 |
Section .0106 | Incorporation by Reference | 6/14/1990 | 5/2/1991, 56 FR 20140 |
Section .0107 | Confidential Information | 6/14/1990 | 5/2/1991, 56 FR 20140 |
Section .0109 | Compliance Schedule for Previously Exempted Activities | 6/14/1990 | 5/2/1991, 56 FR 20140 |
Section .0110 | Retention of Permit at Permitted Facility | 6/14/1990 | 5/2/1991, 56 FR 20140 |
Section .0111 | Applicability Determinations | 6/14/1990 | 5/2/1991, 56 FR 20140 |
Section .0112 | Applications Requiring Professional Engineer Seal | 6/14/1990 | 5/2/1991, 56 FR 20140 |
Section .0300 Construction and Operating Permit
Section .0301 | Applicability | 6/14/1990 | 5/2/1991, 56 FR 20140 |
Section .0302 | Facilities not Likely to Contravene Demonstration | 6/14/1990 | 5/2/1991, 56 FR 20140 |
Section .0303 | Definitions | 6/14/1990 | 5/2/1991, 56 FR 20140 |
Section .0304 | Applications | 6/14/1990 | 5/2/1991, 56 FR 20140 |
Section .0305 | Application Submittal Content | 6/14/1990 | 5/2/1991, 56 FR 20140 |
Section .0306 | Permits Requiring Public Participation | 6/14/1990 | 5/2/1991, 56 FR 20140 |
Section .0307 | Public Participation Procedures | 6/14/1990 | 5/2/1991, 56 FR 20140 |
Section .0308 | Final Action On Permit Applications | 6/14/1990 | 5/2/1991, 56 FR 20140 |
Section .0309 | Termination, Modification and Revocation of Permits | 6/14/1990 | 5/2/1991, 56 FR 20140 |
Section .0310 | Permitting of Numerous Similar Facilities | 6/14/1990 | 5/2/1991, 56 FR 20140 |
Section .0311 | Permitting of Facilities at Multiple Temporary Sites | 6/14/1990 | 5/2/1991, 56 FR 20140 |
Section .0312 | Application Processing Schedule | 6/14/1990 | 5/2/1991, 56 FR 20140 |

* * * * *

[FR Doc. 2018-23246 Filed 10-25-18; 8:45 am]

BILLING CODE 6560-50-P